NUCLEAR REGULATORY COMMISSION

[NRC-2009-0485]

Development of NRC's Safety Culture Policy: Public Workshops; Request for Nomination of Participants in Round Table Discussions and Stakeholder Participation

AGENCY: Nuclear Regulatory Commission (NRC).

ACTION: Notice of public workshops; request for nomination of participants in round table discussions.

SUMMARY: The NRC has prepared a draft policy statement on safety culture to include the unique aspects of nuclear safety and security, and to note expectations that the policy applies to individuals and organizations performing or overseeing NRC-regulated activities. The NRC is conducting public workshops to solicit input relating to the development of the safety culture policy statement. These workshops will be composed of panel discussions. Attendees' participation and feedback on the discussions will also be solicited during the workshops. In addition to announcing the public workshops, the other purpose of this notice is to request the names of individuals desiring to participate in the panel discussion portion of the workshops. Nominations and requests to participate in the panel discussions are requested by January 15, 2010, to allow for their consideration.

The NRC staff is holding workshops to support an overarching goal of forging a consensus around the objectives, strategies, activities and measures that enhance safety culture for NRC-regulated activities. Specifics include the development of the safety culture common terminology effort that comprises: (1) Development of a common safety culture definition; and (2) development of high-level description/traits of areas important to safety culture. These workshops aim to develop these concepts for incorporation into our draft final policy statement and will be considered when revising our oversight programs for NRC-regulated nuclear industries. The tentative dates for the planned public workshops are February 2-4, 2010, and April 13-15, 2010, and October 27-28, 2010, at or near NRC headquarters in Rockville, MD. Please check the NRC Web site (http://www.nrc.gov/public-involve/public-meetings/index.cfm and/or http://www.nrc.gov/about-nrc/regulatory/enforcement/safety-culture.html) for any updates to the workshop schedules and/or information regarding this effort.

In addition to this Federal Register Notice, the NRC has issued a separate Federal Register Notice (November 6, 2009, 74 FR 57525, ADAMS Number ML093030375), which provides individuals and organizations with an interest in nuclear safety, an opportunity to comment on the draft safety culture policy statement in the event they are unable to attend the workshops referenced in this Federal Register Notice.

DATES: Public Workshop Dates: Workshop meeting notices will be available on the NRC Public Meeting Schedule Web site at http://www.nrc.gov/public-involve/public-meetings/index.cfm at least ten days prior to each workshop. The meeting notices on the NRC Public Meeting Schedule Web site will provide information on how those unable to participate in person may do so via teleconference and/or possibly through the Internet.

ADDRESSES: Individuals or organizations with an interest in nuclear safety are encouraged to submit names of individuals who will represent each industry group, stakeholder, union, and so forth, or themselves in the panel discussion portion of the workshops, to Alex Sapountzis or Maria Schwartz by mail to U.S. Nuclear Regulatory Commission, Office of Enforcement, Concerns Resolution Branch, Mail Stop O-4 A15A, Washington, DC 20555-0001, or by e-mail to Alexander.Sapountzis@nrc.gov or Maria.Schwartz@nrc.gov.

Public Workshops: The public workshops will be held at or near the NRC Headquarters building located at 11555 Rockville Pike, Rockville, MD 20852. Because on-street parking is extremely limited, the most convenient transportation to the workshop venue, if held at NRC headquarters, is via Metro's Red Line to the White Flint Stop, which is directly across the street from NRC Headquarters. Please allow time to register with building security upon entering the building. Those unable to travel and attend in person may participate by teleconference and/or possibly through the internet. The public meeting notice will provide specific details regarding this option.

FOR FURTHER INFORMATION CONTACT: Alex Sapountzis, telephone (301) 415-7822 or by e-mail to Alexander.Sapountzis@nrc.gov; or Maria Schwartz, telephone (301) 415-1888 or by e-mail to Maria.Schwartz@nrc.gov. Both of these individuals can also be contacted by mail at the U.S. Nuclear Regulatory Commission, Office of Enforcement, Concerns Resolution Branch, Mail Stop O-4 A15A, Washington, DC 20555-0001. Prior to each workshop, attendees are requested to register with one of the contacts listed in the workshop meeting notice (i.e., the notice serves to announce the date, time and location of the workshop), so that sufficient accommodations can be made for their participation. Please let the contact know if special services, such as services for the hearing impaired, are necessary.

SUPPLEMENTARY INFORMATION:

(1) Purpose of the Public Workshops

The goal of these workshops is to develop concepts that will be incorporated into our draft final policy statement and to consider incorporating these views into our oversight programs for NRC-regulated nuclear industries, as appropriate. Furthermore, the NRC is working with the Agreement States to facilitate their consideration and support of effort in their oversight programs for materials licensees.

The development of the safety culture common terminology concepts (definition and high-level description/traits of areas important to safety culture) will be used in the development of a final safety culture policy statement to facilitate transparency and common understanding of safety culture-related concepts by interested stakeholders. The staff expects that the final safety culture policy will set forth expectations for fostering a strong safety culture, will pertain to all levels of an organization, and will apply to all individuals performing or overseeing NRC-regulated activities. The NRC is working towards increasing the attention that is given to safety culture as part of its efforts to ensure the safe and secure use of radioactive material within NRC's jurisdiction. Because the development of a robust safety culture is important for all NRC-regulated nuclear industries, the NRC is seeking involvement in this effort by individuals and organizations with an interest in nuclear safety. The NRC plans to conduct a series of workshops to maximize the involvement of interested persons in this effort to develop the safety culture definition and the description/traits that will be used to develop the final safety culture policy statement.

(2) Background

In SECY-09-0075 (ADAMS Number ML091130068), dated May 18, 2009, the staff provided a draft safety culture policy statement to the Commission for its approval. SECY-09-0075 also provided a response to the questions posed in Staff Requirements Memorandum (SRM) COMGBJ-08-0001 (ADAMS Number ML080560476). Based on document reviews and other information collection activities addressing safety culture, as well as outreach activities which included a public meeting held on February 3, 2009, (ADAMS Number ML090270103 for the notice with topics to be discussed and meeting summary, ADAMS Number ML090930572), the staff concluded the following: (1) The Commission's expectations for safety culture should be published in one policy statement entitled, “Safety Culture Policy Statement;” (2) the current Reactor Oversight Process (ROP), which includes consideration of cross-cutting aspects of inspection findings, offers valuable insights into licensee's safety culture; (3) the staff should enhance its safety culture initiative for materials licensees, which includes obtaining additional stakeholder views on how the NRC can increase attention to safety culture in the materials area; and (4) the staff should continue to engage the Agreement States on how best to increase the involvement of the Agreement States and Agreement State licensees in safety culture initiatives (Note: The ADAMS documents referenced in this notice are publicly available and contain additional information on the NRC's safety culture initiative, which will not be repeated in this notice. The NRC has established a safety culture Web site that contains additional information on safety culture at http://www.nrc.gov/about-nrc/regulatory/enforcement/safety-culture.html).

On October 16, 2009, the Commission directed the NRC staff in SRM (SECY-09-0075) to publish the draft safety culture policy statement for public comment for no less than a 90-day public comment period. The draft safety culture policy statement was issued for public comment in a Federal Register Notice (November 6, 2009, 74 FR 57525), which provides individuals and organizations with an interest in nuclear safety an opportunity to comment on the draft safety culture policy statement. Additionally, within the SRM, the Commission stressed the importance it places on engaging a broad range of stakeholders in developing the draft final safety culture policy statement in order to “ensure the final policy statement presented to the Commission benefits from consideration of a spectrum of views and provides the necessary foundation for safety culture applicable to the entire nuclear industry.” Interested stakeholders may include, for example, Agreement States, organizations representing NRC licensees or Agreement State licensees, and organizations/unions established to provide government or nuclear safety oversight.

Publicly Available Documents: Publicly available documents related to this safety culture initiative can be accessed using the following methods: NRC's Public Document Room (PDR), where the public may examine, and have copied for a fee, publicly available documents. The address is U.S. Nuclear Regulatory Commission Public Document Room, Public File Area 0-1 F21, One White Flint North, 11555 Rockville Pike, Rockville, MD 20852; or NRC's Agency wide Documents Access and Management System (ADAMS), which can be accessed at http://www.nrc.gov/reading-rm/adams.html. From this site, the public can gain entry into ADAMS which provides text and image files of NRC's public documents. If you do not have access to ADAMS or if you encounter problems in accessing the documents located in ADAMS, contact the PDR Reference staff at 1-800-397-4209, or (301) 415-4737 or by email to pdr.resource@nrc.gov.

(3) Topics for Discussion

The topics that will be discussed at these workshops include developing a common safety culture definition and high-level description/traits of areas important to safety culture. This effort will support the development of a final safety culture policy statement that is transparent, understandable and applicable to all individuals performing or overseeing NRC-regulated industries.

(4) Agendas

Detailed agendas will be available on the NRC Public Meeting Schedule Web site at http://www.nrc.gov/public-involve/public-meetings at least ten days prior to each workshop.

(5) Format of Workshops

To ensure that this process is open, effective, and collaborative, the format of each workshop will consist of a panel discussions among stakeholders, including representatives from NRC-regulated nuclear industries, interest groups such as unions, and members of the public. The panel discussions will be followed by an interactive discussion with other meeting attendees. The NRC is requesting that individuals or organizations with an interest in nuclear safety nominate/self-nominate individuals to participate in the panel discussions (e.g., nuclear power reactor licensees, nuclear fuel cycle facility licensees, Agreement State regulators and so forth should each nominate one or more individuals to speak for that industry/group of licensees/organizations/unions; members of the public with a background/specific interest in safety culture should self-nominate). Nominations and requests to participate in the panel discussions are requested by January 15, 2010. Nominations should also include information supporting the nomination such as affiliation(s) and expertise. The NRC will use the nominations and information supporting the nomination to select final participants with a goal of ensuring a broad spectrum of views and backgrounds. Nominated individuals who are not selected to participate in the panel discussions are highly encouraged to attend the workshops, where there will be opportunities to offer input.

For the Nuclear Regulatory Commission.
Dated at Rockville, Maryland, this 9th day of December 2009.
Roy Zimmerman,
Director, Office of Enforcement.

[FR Doc. E9-29793 Filed 12-14-09; 8:45 am]

BILLING CODE 7590-01-P